FEDERAL COMMUNICATIONS COMMISSION

[DA 20-1269; FRS 17229]

Media Bureau Lifts Freeze on the Filing of Television Station Minor Modification Applications and Rulemaking Petitions

AGENCY: Federal Communications Commission.

ACTION: Notice.

SUMMARY: This document announces that, effective [insert date], the Media Bureau is lifting the freezes on petitions for rulemaking to change channels in the DTV Table of Allotments, petitions for rulemaking for new DTV allotments, petitions for rulemaking to change communities of license, including changes in technical parameters, and modification applications that increase a full power or Class A station's service area beyond an area that is already served..

DATES: The filing freezes will be lifted effective November 12, 2020.

FOR FURTHER INFORMATION CONTACT: Joyce L. Bernstein, Video Division, Media Bureau, Federal Communications Commission, Joyce.Bernstein@fcc.gov, (202) 418-1645.

SUPPLEMENTARY INFORMATION: The Media Bureau announces that, effective fifteen days after publication of this Public Notice, it is lifting the freezes it imposed in 2004, in connection with the DTV Transition, on the filing of certain full power and Class A television station minor modification applications and full power television station rulemaking petitions to amend the DTV Table Allotments. Over the course of the following years, the Bureau extended the freezes to further ensure its database remained stable in connection with the incentive auction and repacking process. With the 2009 completion of the DTV transition and the July 13, 2020 completion of the post-incentive auction transition period, these freezes are no longer required. Accordingly, the Media Bureau deems it appropriate to lift the freezes on petitions for rulemaking to change channels in the DTV Table of Allotments, petitions for rulemaking for new DTV allotments, petitions for rulemaking to change communities of license, including changes in technical parameters, and modification applications that increase a full power or Class A station's service area beyond an area that is already served. The Public Notice also includes filing instructions for interested parties.

The freeze on the filing of applications for new LPTV/translator digital stations and major changes remains in effect.

This action is taken by the Chief, Video Division, Media Bureau pursuant to authority delegated by 47 CFR 0.283 of the Commission's rules.

Federal Communications Commission.
Thomas Horan,
Chief of Staff, Media Bureau.

[FR Doc. 2020-24996 Filed 11-10-20; 8:45 am]

BILLING CODE 6712-01-P